DEPARTMENT OF COMMERCE

National Oceanic and Atmospheric Administration

[Docket No. 990907250-0062-02; I.D. 063099B]

RIN 0648-ZA70

Community-based Restoration Program Guidelines

AGENCY: National Marine Fisheries Service (NMFS), National Oceanic and Atmospheric Administration (NOAA), Commerce.

ACTION: Notification of Program Guidelines.

SUMMARY: NOAA Fisheries began a new Community-based Restoration Program (Program) in 1996 to encourage local efforts to restore fish habitats. Since that time, NOAA has provided funding to 83 small-scale habitat restoration projects around coastal America. The Program is a systematic national effort to encourage partnerships with Federal agencies, states, local governments, non-governmental and non-profit organizations, businesses, industry and schools, to carry out locally important habitat restorations to benefit living marine resources. The Program has developed formal guidelines that will expand the financial instruments available to accomplish furtherance of this mission. This announcement provides program guidelines for the implementation of the Program in FY 2000 and beyond, which incorporates comments by the public and NOAA. This is not a solicitation of project proposals.

DATES: Guidelines are effective March 30, 2000.

ADDRESSES: Send comments to Director, NOAA Restoration Center, National Marine Fisheries Service, 1315 East West Highway (F/HC3), Silver Spring, MD 20910-3282.

FOR FURTHER INFORMATION CONTACT: Christopher D. Doley, (301) 713-0174, or by e-mail at Chris.Doley@noaa.gov.

SUPPLEMENTARY INFORMATION: Details concerning the justification for and development of this notification are provided at 64 FR 53339, October 1, 1999, and are repeated here. In that document, comments were sought on modifications to the Program that would allow greater flexibility to support community-based habitat restoration projects.

Comments and Responses

Comments were few, and all commenters supported the proposed modifications to the existing Program. Comments consisted of minor additions of explanatory detail or minor changes of word choices to clarify points. A summary of the comments and description of changes made to the proposed guidelines follows:

The eligibility requirements section was reworded to clarify that Federal agencies may be designated by a project sponsor as recipients of funding for selected projects, but may not apply for funding directly. To protect the Federal investment, projects on private lands will need to provide assurance that the project will remain intact throughout the useful life of the project, instead of the proposed rule's requirement that project proponents demonstrate a minimum 10-year conservation easement. Partnership arrangements will be pursued on a national level, as well as on a broad-based geographic and regional level, to be more inclusive. Text on pre-application format and process and on full proposal cost estimate requirements was deleted, as this information is presented in great detail in the NOAA grants application package available to all applicants and discussed in solicitations. Under “evaluation criteria”, item number 3, Community Commitment and Partnership Development, the text “qualified youth conservation or service corps” has been added as an example of significant community involvement. And finally, to address environmental justice concerns expressed by one commenter and assure that all residents and citizens affected by the project have the opportunity to participate, under “evaluation criteria,” text was added to state that proposed projects may be evaluated on their ability to demonstrate that they are incorporated into a regional or community planning process.

Background

Habitat loss and degradation are major, long-term threats to the sustainability of the Nation's fishery resources. Over 75 percent of commercial fisheries and 80 to 90 percent of recreational marine and anadromous fishes depend on estuarine or coastal habitats for all or part of their life-cycles. Protecting existing, undamaged habitat is a priority and should be combined with coastal habitat restoration to enlarge and enhance the functionality of degraded habitat. Restored coastal habitat will help rebuild fisheries stocks and recover threatened or endangered species. Restoring coastal habitats will help ensure that valuable resources will be available to future generations of Americans.

The guidelines that follow reflect modifications to the Program that allow greater flexibility to support community-based habitat restoration projects. The purpose of this document is to provide an outline of the goals, objectives, and structure of the Program for implementation in FY 2000 and beyond. The Program will provide Federal Register notifications on the availability of funds and will solicit project proposals once a year, or more. Each solicitation will provide detail on the criteria for project selection and/or on the weighting of the criteria.

Electronic Access

Information on the Program, including partnerships and projects that have been funded to date, can be found on the world wide web at: http://www.nmfs.gov/habitat/restoration.

Goals and Objectives

The Program's objective is to bring together citizen groups, public and non-profit organizations, industry, corporations and businesses, youth conservation corps, students, landowners, and local government, and state and Federal agencies to implement habitat restoration projects to benefit NOAA trust resources. Partnerships are sought at the national and local level to contribute funding, land, technical assistance, workforce support or other in-kind services to allow citizens to take responsibility for the improvement of locally important living marine resources.

The Program recognizes the significant role that communities play in habitat restoration and protection and acknowledges that habitat restoration is often best supported and implemented at a community level. Projects are successful because they have significant community support and depend upon citizens' “hands-on” involvement. The role of NMFS in the Program is to strengthen the development and implementation of sound restoration projects. NMFS anticipates maintaining the current focus of the Program by continuing to form strong national and local partnerships to fund grass-roots, bottom-up activities that restore habitat and develop stewardship and a conservation ethic for the Nation's living marine resources.

Eligibility Requirements

Any state, local or tribal government, regional governmental body, public or private agency or organization may sponsor a project for funding consideration. The sponsoring group or organization may be a recipient of the funds or may recommend that a Federal agency receive the funds for implementation. However, in the latter situation, NMFS would enter into a Memorandum of Agreement among NMFS, the sponsor, and the Federal agency. Federal agencies are not eligible to apply for funding; however, they are encouraged to work in partnership with state agencies, municipalities, and community groups. Successful applicants will be those whose projects demonstrate that significant, direct benefits are expected to NOAA trust resources within supportive, involved communities. Proponents who seek funding under the Program are not eligible to seek funding for the same project under other Restoration Center programs. The Program operates under statutory authority that precludes individuals from applying.

Eligible Restoration Activities

NMFS is interested in funding projects that will result in on-the-ground restoration of habitat to benefit living marine resources, including anadromous fish species. Habitat restoration is defined here as activities that directly result in the reestablishment or re-creation of stable, productive marine, estuarine or coastal river biological systems. Restoration may include, but is not limited to, improvement of coastal wetland tidal exchange or reestablishment of historic hydrology; dam or berm removal; fish passageway improvements; natural or artificial reef/substrate/habitat creation; establishment of riparian buffer zones and improvement of freshwater habitat features that support anadromous fishes; planting of native coastal wetland and submerged aquatic vegetation; and improvements of feeding, spawning, and growth areas essential to fisheries.

In general, proposed projects should clearly demonstrate anticipated benefits to such habitats as salt marshes, seagrass beds, coral reefs, mangrove forests and riparian habitat near rivers, streams and creeks used by anadromous fish. To protect the Federal investment, projects on private lands need to provide assurance that the project will be maintained for its intended purpose for the useful life of the project. Projects on permanently protected lands may be given priority consideration.

Projects must involve significant community support through an educational and/or volunteer component tied to the restoration activities. Implementation of on-the-ground habitat restoration projects must involve community outreach and post-restoration monitoring to assess project success and may involve limited pre-implementation activities, such as engineering and design and short-term baseline studies. Proposals emphasizing only research, outreach, monitoring, or coordination are discouraged, as are funding requests primarily for administration, salaries, overhead, and travel.

Although NMFS recognizes that water quality issues may impact habitat restoration efforts, this initiative is intended to fund physical habitat restoration projects rather than direct water quality improvement measures, such as wastewater treatment plant upgrades or combined sewer outfall corrections. Similarly, the following restoration projects will not be eligible for funding: (1) activities that constitute legally required mitigation for the adverse effects of an activity regulated or otherwise governed by state or Federal law; (2) activities that constitute restoration for natural resource damages under Federal or state law; and (3) activities that are required by a separate consent decree, court order, statute or regulation. Funds from this program may be sought to enhance restoration activities beyond the scope legally required by these activities.

Examples of Previously Funded Projects

The following examples are community-based restoration projects that have been funded with assistance from the Restoration Center. These examples are only illustrative and are not intended to limit the scope of future proposals in any way.

Submerged Aquatic Vegetation Restoration

Funding was provided to evaluate the feasibility of using volunteer divers to restore seagrass. A protocol was developed to train volunteers in water quality monitoring and seagrass transplantation techniques.

Fish Ladder Construction

An impediment to fish passage was corrected through the design and construction of a step-pool fish ladder, which now allows native steelhead trout to reach their historic spawning grounds.

Invasive Plant Removal

Funding was provided to a coalition of volunteer groups called “Pepperbusters” who worked to remove exotic Brazilian pepper plants and replant native shoreline vegetation.

Salt Marsh Restoration

Tidal flushing was restored to 20 acres of salt marsh by replacing an undersized culvert to increase the mean high water level in the restricted portion of the marsh.

Oyster Reef Restoration

Funding was provided to increase oyster reef habitat by reconstructing historic reefs and seeding them with hatchery-produced seed oysters grown in floating cages by students.

Kelp Forest Restoration

Funding was provided to train community dive groups in kelp reforestation activities, including the preparation, planting and maintenance of kelp sites, documentation of growth patterns, and changes in marine life attracted to the newly planted kelp areas.

Wetland Plant Nursery

Funding was provided to start an innovative wetland nursery program in local high schools, where science and ecology classes build wetland nurseries on-campus to grow salt marsh grasses for local restoration efforts.

Riparian Habitat Restoration

Funding was provided to train youth corps in the use of biorestoration and stabilization techniques to restore eroding riverbanks and improve habitat for salmon smolt and other fish species.

Anadromous Fish Habitat Restoration

Highly functional salmonid and wildlife habitat was restored with the cooperation of private landowners by opening silted enclosures along a slough to provide refuge for juvenile salmonids during the winter flood flows.

Funding Sources and Dispersal Mechanisms

The Restoration Center envisions funding projects through joint project agreements, cooperative agreements and grants, and intra- and interagency transfers, as appropriate.

The Secretary of Commerce has authority to enter into joint project agreements with non-profit, research, or public organizations on matters of mutual interest, the cost of which is equitably apportioned. The principal purpose of a joint project agreement under this program is to engage in a collaborative and equitably apportioned effort with a qualified organization on matters of mutual interest.

For purposes of this Program, interagency agreements are written documents containing specific provisions of governing authorities, responsibilities, and funding, entered into between NMFS and a reimbursing Federal agency or between another Federal agency and NMFS when NMFS is the funding organization. Such agreements will also require inclusion of a local sponsor of the restoration project.

A cooperative agreement is a legal instrument reflecting a relationship between NMFS and a recipient whenever (1) the principal purpose of the relationship is to provide financial assistance to the recipient and (2) substantial involvement is anticipated between NMFS and the recipient during performance of the contemplated activity. A grant is similar to a cooperative agreement, except that in the case of grants, substantial involvement between NMFS and the recipient is not anticipated during the performance of the contemplated activity. Financial assistance is the transfer of money, property, services or anything of value to a recipient in order to accomplish a public purpose of support or stimulation which is authorized by Federal statute.

The instrument chosen will be based on such factors as degree of direct NOAA involvement with the project beyond the provision of financial assistance, the proportion of funds invested in the project by NOAA and the other organizations, and the efficiency of the different mechanisms to achieve the Program's goals and objectives. NMFS will determine which method is the most appropriate for funding individual projects based on the specific circumstances of each project.

NMFS reserves the right to fund individual projects directly, or through partnership arrangements. The Program will continue to create partnership arrangements at a national or broad-based, geographic or regional level with non-profit and other organizations that have similar goals for improving fisheries habitat. Partnerships are a key element that allows the Restoration Center to significantly leverage the funding available for on-the-ground restoration. Partnerships also encourage the sharing and distribution of technical expertise, often improve relations between diverse organizations with common goals, and allow NOAA to reach larger and more diverse communities that have vested interests in fishery habitat restoration.

The Restoration Center will also function in a clearinghouse capacity to help develop and link high quality proposals for habitat restoration with other potential funding sources whose evaluation criteria contain similar specifications for habitat enhancement. This will provide greater exposure for project ideas that increase the chances for project proponents to secure funding.

Each year, the Restoration Center Director will determine the proportion of the funds available to the Program that will be obligated to national or broad-based, geographic or regional partnerships and the proportion for direct project solicitation. The proportion will be established annually and will depend upon the amount of funds available from partnership organizations for habitat restoration activities that meet the goals and objectives of the Program, including the goal of funding a broad array of projects over a wide geographic distribution.

Funding Ranges

NMFS anticipates that typical project awards will range from $25,000 to $50,000, but NMFS will accept proposals ranging from $5,000 to $200,000. Final awards will be dependent on funding levels appropriated by Congress. Each solicitation issued for the Program will contain suggested ranges for funding requests and any specific criteria, including the weighting of selection criteria that will be used for proposal evaluation. The number of awards to be made in FY 2000 and beyond will depend on the amount of funds appropriated to the Program.

Match and Use of Funds

The focus of the Program is to provide seed money to leverage funds and other contributions from a broad public and private sector to implement locally important habitat restoration to benefit living marine resources. To this end, proposals are required to demonstrate a minimum 1:1 non-Federal match (equitable share, in the case of a joint project) for CRP funds requested to complete the proposed project. The Restoration Center may waive the requirement for 1:1 matching funds if the project meets the following three requirements: (1) The project is judged to be an outstanding match with NMFS and Restoration Center objectives; (2) there is a critical need to carry out the project in a timely fashion in order to benefit NOAA trust resources; and (3) the project sponsor has attempted to obtain matching funds but was unable to come up with the full 1:1 minimum match required. NOAA strongly encourages applicants to leverage as much investment as possible. The degree to which cost-sharing exceeds the minimum level may be taken into account in the final selection of projects to be funded. The match can come from a variety of public and private sources and can include in-kind goods and services. Federal funds may not be considered as matching funds. Applicants are permitted to combine contributions from additional project partners in order to meet the 1:1 required match (equitable share, in the case of a joint project) for the project. Applicants whose proposals are selected for funding will be obligated to account for the amount of cost-share reflected in the proposal and may be asked to provide letters of commitment identifying and precisely specifying match (or equitable share) to confirm stated contributions.

For each proposal accepted for funding, one award will be made. Funds awarded cannot necessarily pay for all the costs which the recipient might incur in the course of carrying out the project. Allowable costs for grants and cooperative agreements are determined by reference to the Office of Management and Budget Circulars A-122, “Cost Principles for Non-profit Organizations”; A-21, “Cost Principles for Education Institutions”; and A-87, “Cost Principles for State, Local and Indian Tribal Governments.” Generally, costs that are allowable include salaries, equipment, supplies, and training, as long as these are reasonable, allowable, and allocable. However, in order to encourage on-the-ground restoration, if funding for salaries is requested, at least 75 percent of the total salary request must be used to support staff accomplishing the restoration work. Entertainment costs are an example of unallowable costs. Generally, the Program will make awards only to those projects where requested funding will be used to complete proposed restoration activities, with the exception of post-construction monitoring, within a period of 18 months from the time awards are distributed.

Project Selection Process

NOAA will publish, in the Federal Register, notifications soliciting letters of intent and project proposals once a year or more. Letters of intent submitted in response to these solicitation notices, when required, will be screened for eligibility and conformance with the Program guidelines, and guidance will be provided as to the most suitable funding mechanism that project proponents may pursue for further consideration. Applicants providing full proposals for financial assistance will be asked to follow standard NOAA Grants procedures. Full proposals will be screened to determine whether applicants meet the minimum Program requirements, and eligible restoration projects will undergo a technical review, ranking, and selection process. As appropriate during this process, the NOAA Restoration Center will solicit individual technical evaluations of each project and may consult with other NMFS and NOAA offices, the NOAA Grants Management Division, the U.S. Department of Commerce, the Regional Fishery Management Councils, such other Federal and state agencies as state coastal management agencies and state fish and wildlife agencies, and private and public sector subject experts or other interested parties, such as potential partners who have knowledge of a specific project or its subject matter. Reviews will be consolidated, and recommendations on the merits of funding each project and the level of funding NMFS should award will be presented to the Director of the NOAA Restoration Center for approval. Reviewers will assign scores to proposals ranging from 0 (unacceptable) to 100 (excellent) based on the following four evaluation criteria:

(1) Benefit to NOAA Trust Resources

NMFS is interested in funding projects where benefits to living marine resources can be realized. Therefore, NMFS will evaluate proposals based on the potential of the restoration project to restore, protect, conserve, and create habitats and ecosystems vital to self-sustaining populations of living marine resources under NOAA Fisheries stewardship. Locations where restoration projects may have high potential to benefit NOAA trust resources include areas identified as essential fish habitat (EFH) and areas within EFH identified as Habitat Areas of Particular Concern; areas identified as critical habitat for listed marine and anadromous species; areas identified as important habitat for marine mammals; areas located within National Marine Sanctuaries or National Estuarine Research Reserves; watersheds or other areas under conservation management, such as special management areas under state coastal management programs; and other important commercial or recreational marine fish habitat, including degraded areas that formerly were important habitat for living marine resources.

(2) Technical Merit and Adequacy of Implementation Plan

Proposals will be evaluated on the technical feasibility of the project from both biological and engineering perspectives and on the qualifications and past experience of the project leaders and/or partners. Communities and/or organizations developing their first locally driven restoration project may not be able to document past experience, and, therefore, will be evaluated on the basis of the availability of technical expertise to guide the project to a successful completion. Proposals will also be evaluated on their ability to (a) deliver the restoration objective stated in the proposal; (b) provide educational benefits; (c) incorporate post-restoration monitoring and assessment of project success in terms of meeting the proposed objectives; (d) demonstrate that the restoration activity will be sustainable and long-lasting;(e) provide assurance that implementation of the project will meet all Federal and state environmental laws and Federal consistency requirements by obtaining or proceeding to obtain applicable permits and consultations; and (f) provide mid-term and final project reports, including photo-documentation of the project site and restoration activities.

(3) Community Commitment and Partnership Development

Proposals will be evaluated on how well they describe the depth and breadth of the community's support. Projects must incorporate significant community involvement, which may include the following: (a) Hands-on training and restoration activities undertaken by volunteer students, qualified youth conservation or service corps, or other citizens; (b) input from local entities, such as businesses, conservation organizations, and others, either through in-kind goods and services (earth moving, technical expertise, easements) or cash contributions; (c) visibility within the community and demonstrated potential for public outreach and/or outreach products, including, but not limited to, an educational sign/poster at the project site, compilation of protocols into training manuals, guides, brochures, or videos; (d) cooperation with private landowners that set an example within the community for natural resource conservation; (e) support by state and local governments; (f) representation of those within the community who have an interest in or are affected by the project and seek the benefits of the restoration; (g) ability to achieve long-term stewardship for restored resources and generate a community conservation ethic; and/or (h) ability of a project to demonstrate that it is incorporated into a regional or community planning process or otherwise assure that all residents or citizens affected by the project are provided an opportunity to participate.

(4) Cost-effectiveness and Budget Justification

Projects will be evaluated on (a) their ability to demonstrate that a significant benefit will be generated for the most reasonable cost; (b) their importance to living marine resources under NOAA stewardship; (c) the extent of habitat and degree to which it will be restored; and (d) on their demonstration of partnership and collaboration. Projects will also be ranked in terms of their need for funding and the ability of NMFS to act as a catalyst to implement projects. NMFS will require cost sharing to leverage funding and to encourage partnerships among government, industry, and academia to address the needs of communities to restore important fisheries habitat.

The exact amount of funds awarded to a project and the funding instrument will be determined in pre-award negotiations between the applicant and NOAA/NMFS representatives. The application and reporting requirements will differ depending upon the funding instrument selected. Projects receiving funds under this program will have to meet applicable NOAA/Department of Commerce/Federal policies, requirements, and laws.

Administrative Procedure Act

Prior notice and an opportunity for public comments are not required by the Administrative Procedure Act, (5 U.S.C. sec. 553), because these are agency guidelines. Because NMFS was interested in receiving comments on modifications to the Program that would allow greater flexibility to support community-based habitat restoration projects, NMFS solicited comments in the notice that was published in the Federal Register on October 1, 1999. This notice responds to those comments, and announces the final guidelines for the Program.

Statutory Authority

Fish and Wildlife Coordination Act of 1956, 16 U.S.C. 661-667; Joint Project Authority, 15 U.S.C. 1525; and the Economy Act, 31 U.S.C. 1535.

Dated: March 27, 2000.
Penelope D. Dalton,
Assistant Administrator for Fisheries, National Marine Fisheries Service.

[FR Doc. 00-7919 Filed 3-29-00; 8:45 am]

BILLING CODE 3510-22-F